DEPARTMENT OF DEFENSE

Department of the Navy

[Docket ID: USN-2015-0004]

Proposed Collection; Comment Request

AGENCY: Department of the Navy, DoD.

ACTION: Notice.

SUMMARY: In compliance with the Paperwork Reduction Act of 1995, the United States Marine Corps announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 8, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Children, Youth and Teen Programs (CYTP), Marine and Family Programs Division (MFY-3), 3280 Russell Road, Marsh Center, Quantico, VA 22134, or call CYTP at 703-784-9553.

SUPPLEMENTARY INFORMATION: Title; Associated Form; and OMB Number: USMC Children, Youth and Teen Programs (CYTP) Registration Packet; NAVMC 11720, NAVMC 1750/4, and NAVMC 1750/5; OMB Control Number 0703-XXXX.

Needs and Uses: The information collected on these forms is used by Marine Corps Family Care Programs (MFP) and Inclusion Action Team (IAT) professionals for purposes of patron registration, to determine the general health status of patrons participating in CYTP activities and if necessary the appropriate accommodations for the patron for full enjoyment of CYTP services, and provides consent for information to be exchanged between MFP personnel and other designated individuals or organizations about a patron participating in MFP. These forms may potentially be completed by a member of the public. Collected information will be filed pursuant to the Privacy Act System of Records Notice NM01754-3.

NAVMC 1750/5 USMC Children, Youth & Teen Programs (CYTP) Registration Form:

Annual Burden Hours: 56,000.

Number of Respondents: 112,000.

Responses per Respondent: 1.

Average Burden per Response: 30 minutes.

Frequency: Annually.

NAVMC 1750/4 USMC Children, Youth & Teen Programs (CYTP) Health Assessment and Health Screening Tool for Inclusion Action Team (IAT):

Annual Burden Hours: 56,000.

Number of Respondents: 112,000.

Responses per Respondent: 1.

Average Burden per Response: 30 minutes.

Frequency: Annually.

NAVMC 11720 USMC Family Care Programs—Consent to Release Information:

Annual Burden Hours: 32,167.

Number of Respondents: 193,000.

Responses per Respondent: 1.

Average Burden per Response: 10 minutes.

Frequency: Annually.

Total:

Affected Public: Individuals or Households.

Annual Burden Hours: 165,000.

Number of Respondents: 198,000.

Responses per Respondent: 2.

Annual Responses: 396,000.

Average Burden per Response: 25 minutes.

Frequency: Annually.

Respondents are MFP patrons who provide information to MFP and IAT personnel in order to allow the child to participate in CYTP activities, determine the general health status of patrons participating in CYTP activities, and if necessary, determine the appropriate accommodations for the patron for full enjoyment of CYTP services, and provide consent for information about the patron from other specified individuals and organizations. These forms provide CYTP personnel with demographic information and emergency contact information. It also allows parents/guardians to provide consent for specific activities that may take place while participating in CYTP. Failure to provide information may limit MFP's ability to properly consider participants' health and special needs, adversely impact individuals from participation in CYTP activities, and will limit MFP's ability to communicate with organizations or individuals outside of DoD which may adversely affect available services. Having these forms is essential in providing the requested child care services and activities to all CYTP participants, and maintaining the continuity of care, safety and health of CYTP participants.

Dated: July 6, 2015.
Aaron Siegel,
Alternate OSD Federal Register Liaison Officer, Department of Defense.

[FR Doc. 2015-16785 Filed 7-8-15; 8:45 am]

BILLING CODE 5001-06-P